DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on October 1, 2022, through October 31, 2022. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Health Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Carole Johnson,
Administrator.

List of Petitions Filed

1. Thomas Mayo, Wauwatosa, Wisconsin, Court of Federal Claims No: 22-1421V

2. Marsha Pavlik Wood, Stow, Ohio, Court of Federal Claims No: 22-1422V

3. Ella Burroughs, Phoenix, Arizona, Court of Federal Claims No: 22-1423V

4. Sylvia Kline on behalf of B.H., Phoenix, Arizona, Court of Federal Claims No: 22-1424V

5. Ross Kleiman, Boston, Massachusetts, Court of Federal Claims No: 22-1426V

6. Lindsey Alvarez, Fullerton, California, Court of Federal Claims No: 22-1428V

7. Deanna A. Finch, Newport, Tennessee, Court of Federal Claims No: 22-1429V

8. Larry Pierce, Kansas City, Kansas, Court of Federal Claims No: 22-1432V

9. Joann Bauer, Duluth, Minnesota, Court of Federal Claims No: 22-1440V

10. Arthur Passarelli, Washington, District of Columbia, Court of Federal Claims No: 22-1443V

11. James Thurston and Valerie Thurston on behalf of A.T., Lakeland, Florida, Court of Federal Claims No: 22-1444V

12. Andrea Cuatt, Los Angeles, California, Court of Federal Claims No: 22-1447V

13. Judith Wertin, Fort Bragg, California, Court of Federal Claims No: 22-1449V

14. Grace Laurin, Plattsburgh, New York, Court of Federal Claims No: 22-1450V

15. Stacey R. Williams, Fort Bragg, North Carolina, Court of Federal Claims No: 22-1451V

16. Juliet Hawk, San Diego, California, Court of Federal Claims No: 22-1454V

17. Kenneth Ingalsbe, Batavia, New York, Court of Federal Claims No: 22-1457V

18. Meaghan Clifford, Boston, Massachusetts, Court of Federal Claims No: 22-1458V

19. Karessa Hinson-Sherwood, Gainesville, Florida, Court of Federal Claims No: 22-1461V

20. Tiffany Wentworth, Simsbury, Connecticut, Court of Federal Claims No: 22-1463V

21. Cecil Terry, Mannington, West Virginia, Court of Federal Claims No: 22-1465V

22. Anthony Carter, Midfield, Alabama, Court of Federal Claims No: 22-1467V

23. Shirley Barker, Milwaukee, Wisconsin, Court of Federal Claims No: 22-1470V

24. Devon Anderson, Columbus, Ohio, Court of Federal Claims No: 22-1475V

25. Lita Lange, Stuart, Florida, Court of Federal Claims No: 22-1476V

26. Christine Stubbs, North Lauderdale, Florida, Court of Federal Claims No: 22-1478V

27. Donna L. Clark, Taylorville, Illinois, Court of Federal Claims No: 22-1479V

28. Marifer B. Cleveland, Carson, California, Court of Federal Claims No: 22-1480V

29. Tina Jackson, Charlotte, North Carolina, Court of Federal Claims No: 22-1481V

30. Walter C. Holtzhafer, Allentown, Pennsylvania, Court of Federal Claims No: 22-1482V

31. Terry Casey, Edgewood, Kentucky, Court of Federal Claims No: 22-1483V

32. Robert William Gebel, St. Louis, Missouri, Court of Federal Claims No: 22-1484V

33. Krystle Miller, Johnstown, Pennsylvania, Court of Federal Claims No: 22-1485V

34. David Hopkins, Wallingford, Pennsylvania, Court of Federal Claims No: 22-1486V

35. Courtney Brooks, Beachwood, Ohio, Court of Federal Claims No: 22-1487V

36. Michael Fenton, Waterford, Connecticut, Court of Federal Claims No: 22-1488V

37. Mariann Mattia, Mesa, Arizona, Court of Federal Claims No: 22-1491V

38. Lewis Schweighauser, Jackson, Tennessee, Court of Federal Claims No: 22-1493V

39. Shirley Alston on behalf of Estate of Charles Jeffrey Alston, Deceased, Pittsburgh, Pennsylvania, Court of Federal Claims No: 22-1494V

40. Matthew Orduno, San Gabriel, California, Court of Federal Claims No: 22-1495V

41. Pandora Lee Lay, Tulsa, Oklahoma, Court of Federal Claims No: 22-1496V

42. Michiko Miyahara, Phoenix, Arizona, Court of Federal Claims No: 22-1497V

43. Paulette Brackin on behalf of E. C., Phoenix, Arizona, Court of Federal Claims No: 22-1498V

44. Jeannie Boslough, Phoenix, Arizona, Court of Federal Claims No: 22-1499V

45. Kimberly Bundy-Fazioli, Boston, Massachusetts, Court of Federal Claims No: 22-1500V

46. Kimberly M. Corpening, Morgantown, North Carolina, Court of Federal Claims No: 22-1501V

47. Angela Marie Campos, Fontana, California, Court of Federal Claims No: 22-1502V

48. Rosa Martinez, Staten Island, New York, Court of Federal Claims No: 22-1503V

49. Sandra Beasley on behalf of M.T., Phoenix, Arizona, Court of Federal Claims No: 22-1504V

50. Adrian Williams, Metairie, Louisiana, Court of Federal Claims No: 22-1507V

51. Shamir Davis, Cleveland, Ohio, Court of Federal Claims No: 22-1508V

52. Jeremy Nagelberg, Phoenix, Arizona, Court of Federal Claims No: 22-1509V

53. Sheila Boedeker, St. Paul, Minnesota, Court of Federal Claims No: 22-1510V

54. Muhammad Alqulissi, Houston, Texas, Court of Federal Claims No: 22-1511V

55. Ken Andrew, Portland, Oregon, Court of Federal Claims No: 22-1512V

56. Kelly S. Carpino and Robbin L. Reinard on behalf of Estate of Robert E. Wonderling, Deceased, Brookville, Pennsylvania, Court of Federal Claims No: 22-1513V

57. Halyn Dutcher, Phoenix, Arizona, Court of Federal Claims No: 22-1514V

58. Billie J LaVoie, Indianapolis, Indiana, Court of Federal Claims No: 22-1516V

59. Helen Draper, Salt Lake City, Utah, Court of Federal Claims No: 22-1517V

60. Kelli Boerckel, Dresher, Pennsylvania, Court of Federal Claims No: 22-1518V

61. Christine Benfield, Wellesley, Massachusetts, Court of Federal Claims No: 22-1522V

62. Jillian Lamberg, Wellesley, Massachusetts, Court of Federal Claims No: 22-1523V

63. Lukeeber Grant on behalf of B.G., Phoenix, Arizona, Court of Federal Claims No: 22-1524V

64. Chase Clarke, Phoenix, Arizona, Court of Federal Claims No: 22-1525V

65. Thellys Ann Walden on behalf of Estate of Billy Edwin Walden, Deceased, Tulsa, Oklahoma, Court of Federal Claims No: 22-1526V

66. Ebony Henderson, Erie, Pennsylvania, Court of Federal Claims No: 22-1528V

67. Lisa Jarvis, Wallingford, Connecticut, Court of Federal Claims No: 22-1529V

68. Jennifer Paulino on behalf of M.S., Davidson, North Carolina, Court of Federal Claims No: 22-1533V

69. Robert Hintzke, Oak Creek, Wisconsin, Court of Federal Claims No: 22-1534V

70. Amanda Wade, Afton, Wyoming, Court of Federal Claims No: 22-1535V

71. Martin Pulido, Bakersfield, California, Court of Federal Claims No: 22-1536V

72. Paula P. Bentley, Richmond, Virginia, Court of Federal Claims No: 22-1537V

73. Donna Nomick, Eldersburg, Maryland, Court of Federal Claims No: 22-1538V

74. Lashawn Johnson, Clinton, Maryland, Court of Federal Claims No: 22-1539V

75. Steven Tolar, Lake May, Florida, Court of Federal Claims No: 22-1540V

76. Cletus McLaughlin, Limerick, Pennsylvania, Court of Federal Claims No: 22-1541V

77. Janessa Johnson, St. Louis, Missouri, Court of Federal Claims No: 22-1542V

78. Jill Savage, Auburn Hills, Michigan, Court of Federal Claims No: 22-1543V

79. Amy Nikrad, Boston, Massachusetts, Court of Federal Claims No: 22-1544V

80. Linda Wilson, Newton, Massachusetts, Court of Federal Claims No: 22-1545V

81. Linda Molaison, Houston, Texas, Court of Federal Claims No: 22-1546V

82. Donna Hayes, Phoenix, Arizona, Court of Federal Claims No: 22-1547V

83. Darcia A. Tisdale, St. George, Utah, Court of Federal Claims No: 22-1548V

84. Judith Huffman, Maryville, Tennessee, Court of Federal Claims No: 22-1550V

85. Regina A. Grebb, Pittsburgh, Pennsylvania, Court of Federal Claims No: 22-1552V

86. Shelly Collier, Phoenix, Arizona, Court of Federal Claims No: 22-1555V

87. Laura Paytash, Penfield, New York, Court of Federal Claims No: 22-1556V

88. Gary Tucker, Highlands, New Jersey, Court of Federal Claims No: 22-1557V

89. Beth Stitzel, Aventura, Florida, Court of Federal Claims No: 22-1558V

90. Lashawn L. Long, New Lisbon, Wisconsin, Court of Federal Claims No: 22-1559V

91. Angela Vinson on behalf of J.V., Inez, Kentucky, Court of Federal Claims No: 22-1561V

92. Denise Rojas Hernandez, Wellesley, Massachusetts, Court of Federal Claims No: 22-1563V

93. Ellen A. Mintzer, Westfield, Massachusetts, Court of Federal Claims No: 22-1565V

94. Keri A. Wisnieski, Norfolk, Nebraska, Court of Federal Claims No: 22-1566V

95. Jada Brisbois, Phoenix, Arizona, Court of Federal Claims No: 22-1570V

96. Fred Allison, Houston, Texas, Court of Federal Claims No: 22-1573V

97. Kelly Belaouni on behalf of H.B., Monroeville, Pennsylvania, Court of Federal Claims No: 22-1574V

98. Susan Leggett-Johnson, Hyattsville, Maryland, Court of Federal Claims No: 22-1575V

99. Nina Brown, Quinlan, Texas, Court of Federal Claims No: 22-1576V

100. Therese Jackson, Brandon, Florida, Court of Federal Claims No: 22-1577V

101. Sherryl Fisher, Atlanta, Georgia, Court of Federal Claims No: 22-1579V

102. Mary Barizone on behalf of A.F., Phoenix, Arizona, Court of Federal Claims No: 22-1580V

103. Dean Parker on behalf of Z.P., Phoenix, Arizona, Court of Federal Claims No: 22-1581V

104. Charles Benkiel, Elgin, Illinois, Court of Federal Claims No: 22-1585V

105. Sandra Mehl, Geneva, Illinois. Court of Federal Claims No: 22-1586V

106. Sarah Waxman, Flemington, New Jersey, Court of Federal Claims No: 22-1587V

107. Mary Busby, Salisbury, Massachusetts, Court of Federal Claims No: 22-1590V

108. Melissa Abbott on behalf of M.A., Phoenix, Arizona, Court of Federal Claims No: 22-1591V

109. John Thomas, Stockton, New Jersey, Court of Federal Claims No: 22-1594V

110. Charles Yocum on behalf of N. Y., Phoenix, Arizona, Court of Federal Claims No: 22-1595V

111. Hamdi Qasem Almudhari and Huda Nasser Kassem on behalf of H.A., Boston, Massachusetts, Court of Federal Claims No: 22-1599V

112. Katharine Gmuer, Washington, District of Columbia, Court of Federal Claims No: 22-1604V

113. Robin Babb, Owasso, Oklahoma, Court of Federal Claims No: 22-1605V

114. Patrick A. Frepan, Brownsburg, Indiana, Court of Federal Claims No: 22-1606V

115. Melissa Little, Boston, Massachusetts, Court of Federal Claims No: 22-1608V

116. Heather Harbison, Phoenix, Arizona, Court of Federal Claims No: 22-1609V

117. Stacy Connor, New Bern, North Carolina, Court of Federal Claims No: 22-1610V

118. Trina Remy on behalf of J.R., Mamaroneck, New York, Court of Federal Claims No: 22-1611V

119. Michael Nadeau, Boston, Massachusetts, Court of Federal Claims No: 22-1613V

120. Alpha Patrick, Knoxville, Tennessee, Court of Federal Claims No: 22-1615V

121. Brianna Wagner, Ridgewood, New Jersey, Court of Federal Claims No: 22-1616V

122. Randy Tomplait on behalf of the Estate of Pamela Tomplait, Deceased, Celina, Texas, Court of Federal Claims No: 22-1618V

123. Serina Johnson, Elkridge, Maryland, Court of Federal Claims No: 22-1619V

124. Steven Wilson, Smithville, Missouri, Court of Federal Claims No: 22-1620V

125. Veronica Baker, New Bern, North Carolina, Court of Federal Claims No: 22-1621V

126. Jennifer Kjeldgaard, Normal, Illinois, Court of Federal Claims No: 22-1622V

127. Penny J. Stanek, West Seneca, New York, Court of Federal Claims No: 22-1623V

128. Faith Nthiga, Kirkland, Washington, Court of Federal Claims No: 22-1624V

[FR Doc. 2022-26695 Filed 12-7-22; 8:45 am]

BILLING CODE 4165-15-P